DEPARTMENT OF HOMELAND SECURITY

Coast Guard

33 CFR Part 165

[Docket Number USCG-2025-0556]

RIN 1625-AA00

Safety Zones; Delaware River Dredging, Marcus Hook, PA

AGENCY: Coast Guard, DHS.

ACTION: Temporary interim rule and request for comments.

SUMMARY: The Coast Guard is establishing three temporary safety zones on the waters of the Delaware River, in portions of Marcus Hook Range, Anchorage 7, off Marcus Hook, PA, and Anchorage 9, near entrance to Mantua Creek. The safety zones temporarily restrict vessel traffic from transiting or anchoring in portions of the Delaware River while maintenance dredging is being conducted. The safety zones are needed to protect personnel, vessels, and the marine environment from hazards created by dredging operations. Entry of vessels or persons into these zones is prohibited unless specifically authorized by the COTP or his designated representatives.

DATES: This rule is effective without actual notice from July 9, 2025, through October 31, 2025. For the purposes of enforcement, actual notice will be used from July 1, 2025, until July 9, 2025.

Comments due date: Comments and related material must be received by the Coast Guard on or before August 8, 2025.

ADDRESSES: You may submit comments identified by docket number USCG-2025-0556 using the Federal Document Management System at https://www.regulations.gov. See the “Public Participation and Request for Comments” portion of the SUPPLEMENTARY INFORMATION section for further instructions on submitting comments. To view documents mentioned in this preamble as being available in the docket, go to https://www.regulations.gov, type USCG-2025-0556 in the search box and click “Search.” Next, in the Document Type column, select “Supporting & Related Material.”

FOR FURTHER INFORMATION CONTACT: If you have questions about this rule, call or email Petty Officer Dylan Caikowski, Waterways Management Branch, U.S. Coast Guard Sector Delaware Bay; telephone (206) 815-6688, option 3, email SecDelBayWWM@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impracticable to do so given that there is insufficient time to allow for a reasonable comment period and publish a final rule prior to July 1, 2025, the start date for dredging operations.

Also, under 5 U.S.C. 553(d)(3), the Coast Guard finds that good cause exists for making this rule effective less than 30 days after publication in the Federal Register for the same reason provided above.

III. Legal Authority and Need for Rule

The Coast Guard is issuing this rule under authority in 46 U.S.C. 70034. The COTP has determined that dredging operations present potential hazards, such as the presence of submerged and floating pipelines, booster pumps, head sections, and vessels with a restricted ability to maneuver. The purpose of this rulemaking is to ensure the safety of personnel, vessels, and the marine environment within a 250-yard radius of dredging operations and all associated pipeline and equipment and to ensure safe anchorage availability for larger vessels which are not able to anchor in areas being dredged.

IV. Discussion of the Rule

This rule establishes three safety zones from July 1, 2025, through October 31, 2025. Two safety zones are being established to facilitate maintenance dredging of the Delaware River in the vicinity of Marcus Hook Range, and Anchorage 7, off Marcus Hook, as described in 33 CFR 110.157(a)(8). The third safety zone is being established in Anchorage 9, near entrance to Mantua Creek, as described in 33 CFR 110.157(a)(10), to ensure safe anchorage availability for larger vessels that cannot anchor in Anchorage 7 because of the dredging. Dredging will most likely be conducted with the dredge LEXINGTON, though other dredges may be used, along with associated dredge pipeline and boosters. The pipeline consists of a combination of floating hoses immediately behind the dredge and submerged pipeline leading to upland disposal areas. Due to the hazards related to dredging operations, the associated pipeline and the location of submerged pipeline, safety zones are being established in the following areas:

(1) Safety Zone One includes all navigable waters within 250 yards of the dredge, and all related dredge equipment when the dredge is operating in Marcus Hook Range, and Anchorage 7. The dredge will be displaying lights and shapes for vessels restricted in ability to maneuver, as described in our Inland Navigation Rules at 33 CFR 83.27. This safety zone is being established for the duration of the maintenance project. Vessels requesting to transit the safety zone must contact the dredge on VHF channel 13 or 16 at least 1 hour prior to arrival to arrange safe passage. At least one side of the main navigational channel will be kept clear for safe passage of vessels in the vicinity of the safety zone. At no time will the entire main navigational channel be closed to vessel traffic. Vessels should avoid meeting in these areas where one side of the main navigational channel is open and proceed per this rule and the Rules of the Road (33 CFR chapter I, subchapter E).

(2) Safety Zone Two includes all the waters of Anchorage 7 off Marcus Hook Range, as described in 33 CFR 110.157(a)(8). Vessels wishing to anchor in Anchorage 7 off Marcus Hook Range while this rule is in effect must obtain permission from the COTP at least 24 hours in advance by calling (215) 271-4807. Vessels requesting permission to anchor within Anchorage 7 off Marcus Hook must be at least 650 feet in overall length. The COTP will permit, at maximum, two vessels to anchor at a time, on a “first-come, first-served” basis. Vessels will only be allowed to anchor for a 12-hour period. Vessels that require an examination by the Public Health Service, Customs, or Immigration authorities will be directed to an anchorage by the COTP for the required inspection. Vessels under 650 feet in overall length may request to anchor in Anchorage 7, off Marcus Hook Range by contacting the COTP via phone at (215) 271-4807 and may be approved on a case-by-case basis. Vessels are encouraged to use Anchorage 9 near the entrance to Mantua Creek, Anchorage 12 between Gloucester and Camden, Philadelphia, and Anchorage 6 off Deepwater Point Range as alternative anchorages.

(3) Safety Zone Three includes all the waters of Anchorage 9, near entrance to Mantua Creek, as described in 33 CFR 110.157(a)(10). Vessels must be at least 500 feet in overall length to anchor in Anchorage 9, near entrance to Mantua Creek. Vessels under 500 feet in overall length may request to anchor in Anchorage 9, near entrance to Mantua Creek by contacting the COTP via phone at (215) 271-4807 and may be approved on a case-by-case basis.

Vessels must be at least 650 feet in overall length to use Anchorage 7 and 500 feet in overall length to use Anchorage 9 while this rule is in effect. We are instituting this restriction because vessels of this size are limited in their ability to utilize other anchorages due to draft and Anchorage 9 needs to be utilized as overflow for vessels between 500 feet and 700 feet in overall length. Smaller vessels maintain a host of other options to include, but not limited to, Anchorage 6 and 12, as recommended above.

Entry into, transiting, or anchoring within safety zone one is prohibited unless vessels obtain permission from the COTP or make satisfactory passing arrangements with the operating dredge per this rule and the Rules of the Road (33 CFR chapter I, subchapter E). The COTP may issue updates regarding the vessel and equipment being utilized for these dredging operations via Marine Safety Information Bulletin, Broadcast Notice to Mariners and Local Notice to Mariners.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action” under section 3(f) of Executive Order 12866. Accordingly, OMB has not reviewed it.

This regulatory action determination is based on size, location, duration, and traffic management of the safety zones. The safety zones will be enforced in an area and in a manner that does not conflict with transiting commercial and recreational traffic. At least one side of the main navigational channel will be open for vessels to transit at all times. Moreover, the Coast Guard will work in coordination with the pilots to ensure vessel traffic can transit the area safely.

Although this regulation will restrict access to regulated areas, the effect of this rule will not be significant because there are several alternate anchorages available for vessels to anchor. Furthermore, vessels may transit through the safety zones with the permission of the COTP or make satisfactory passing arrangements with the dredge LEXINGTON, or other dredge(s) that may be used in accordance with this rule and the Rules of the Road (33 CFR chapter I, subchapter E). The Coast Guard will notify the maritime public about the safety zones through maritime advisories, allowing mariners to alter their plans accordingly.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves three safety zones to protect waterway users that would prohibit entry within 250 yards of dredging operations and will close only one side of the main navigation channel. Vessels can request permission to pass through the channel. It is categorically excluded from further review under paragraph L60(a) of Appendix A, Table 1 of DHS Instruction Manual 023-01-001-01, Rev. 1. A Record of Environmental Consideration supporting this determination is available in the docket. For instructions on locating the docket, see the ADDRESSES section of this preamble.

VI. Public Participation and Request for Comments

Although we are promulgating this as a temporary interim rule for lack of time to take comments prior to issuing the rule, we view public participation as essential to effective rulemaking and will consider all comments and material received during the comment period. If you submit a comment, please include the docket number for this rulemaking, indicate the specific section of this document to which each comment applies, and provide a reason for each suggestion or recommendation.

Submitting comments. We encourage you to submit comments through the Federal Document Management System at https://www.regulations.gov. To do so, go to https://www.regulations.gov, type USCG-2025-0556 in the search box and click “Search.” Next, look for this document in the Search Results column, and click on it. Then click on the Comment option. If you cannot submit your material by using https://www.regulations.gov, call or email the person in the FOR FURTHER INFORMATION CONTACT section of this rule for alternate instructions.

Viewing material in docket. To view documents mentioned in this rule as being available in the docket, find the docket as described in the previous paragraph, and then select “Supporting & Related Material” in the Document Type column. Public comments will also be placed in our online docket and can be viewed by following instructions on the https://www.regulations.gov Frequently Asked Questions web page. Also, if you click on the Dockets tab and then the rule, you should see a “Subscribe” option for email alerts. The option will notify you when comments are posted, or a final rule is published.

We review all comments received, but we will only post comments that address the topic of the rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T05-0556 to read as follows:

§ 165.T05-0556 Safety Zones, Delaware River Dredging; Marcus Hook, PA.

(a) Location. The following areas are safety zones:

(1) Safety zone one includes all waters within 250 yards of the dredge displaying lights and shapes for vessels restricted in ability to maneuver as described in 33 CFR 83.27, as well as all related dredge equipment, while the dredge is operating in Marcus Hook Range. For enforcement purposes, Marcus Hook Range includes all navigable waters of the Delaware River, bound by a line drawn perpendicular to the center line of the channel at the farthest upriver point of the range to a line drawn perpendicular to the center line of the channel at the farthest downriver point of the range.

(2) Safety zone two includes all the waters of Anchorage 7 off Marcus Hook Range, as described in 33 CFR 110.157(a)(8).

(3) Safety zone three includes all the waters of Anchorage 9, near entrance to Mantua Creek, as described in 33 CFR 110.157(a)(10).

(b) Definitions. As used in this section, designated representative means any Coast Guard commissioned, warrant, or petty officer who has been authorized by the Captain of the Port to assist with enforcement of the safety zone described in paragraph (a) of this section.

(c) Regulations. (1) Entry into or transiting within the safety zone one is prohibited unless vessels make satisfactory passing arrangements via VHF-FM radio channel 13 or 16 with the operating dredge per this section and the rules of the Road (33 CFR chapter I, subchapter E). Vessels requesting to transit shall contact the operating dredge via VHF-FM radio channel 13 or 16 at least 1 hour prior to arrival. Alternatively, vessels may obtain permission from the Captain of the Port, Sector Delaware Bay (COTP) via VHF-FM radio channel 16 or via phone at (215) 271-4807.

(2) Vessels desiring to anchor in safety zone two, Anchorage 7 off Marcus Hook Range, must be at least 650 feet in overall length and must obtain permission from the COTP at least 24 hours in advance by calling (215) 271-4807. The COTP will permit, at maximum, two vessels at a time to anchor on a “first-come, first-served” basis. Vessels will only be allowed to anchor for a 12-hour period. Vessels under 650 feet in overall length may request to anchor in Anchorage 7, off Marcus Hook Range by contacting the COTP at the phone number detailed above and may be approved on a case-by-case basis. Vessels that require an examination by the Public Health Service, Customs, or Immigration authorities will be directed to an anchorage for the required inspection by the COTP.

(3) Vessels desiring to anchor in safety zone three, Anchorage 9, near entrance to Mantua Creek, must be at least 500 feet in overall length. Vessels under 500 feet in overall length may request to anchor in Anchorage 9, near entrance to Mantua Creek, and may be approved on a case-by-case basis.

(4) This section applies to all vessels except those engaged in the following operations: enforcement of laws, service of aids to navigation, and emergency response.

(d) Enforcement. The U.S. Coast Guard may be assisted by Federal, State, and local agencies in the patrol and enforcement of the zone.

(e) Enforcement period. This section will be enforced from July 1, 2025, through October 31, 2025, unless cancelled earlier by the Captain of the Port, Sector Delaware Bay.

Dated: July 1, 2025.
Kate F. Higgins-Bloom,
Captain, U.S. Coast Guard, Captain of the Port, Sector Delaware Bay.

[FR Doc. 2025-12765 Filed 7-8-25; 8:45 am]

BILLING CODE 9110-04-P